DEPARTMENT OF HEALTH AND HUMAN SERVICES

National Institutes of Health

Office of the Director, National Institutes of Health; Amended Notice of Meeting

Notice is hereby given of a change in the meeting of the Office of the Director, National Institutes of Health, Board of Scientific Counselors, May 15, 2020, 10:00 a.m. to 2:00 p.m., National Institutes of Health, 1 Center Drive, Building 1, Room 151, Bethesda, MD 20892, which was published in the Federal Register on February 28, 2020, 85 FR 12797.

The meeting notice is amended to change the email of the Contact Person from mmburney@od.nih.gov to mmcburney@od.nih.gov. The meeting is partially Closed to the public.

Dated: March 6, 2020.
Miguelina Perez,
Program Analyst, Office of Federal Advisory Committee Policy.

[FR Doc. 2020-04930 Filed 3-10-20; 8:45 am]

BILLING CODE 4140-01-P